FEDERAL COMMUNICATIONS COMMISSION

[Report No. AUC-06-65-D (Auction No. 65); DA 06-588]

Auction of 800 MHz Air-Ground Radiotelephone Service Licenses Scheduled for May 10, 2006; Additional Default Payment of 20 Percent Will Apply to Auction No. 65

AGENCY: Federal Communications Commission.

ACTION: Notice.

SUMMARY: This document announces the additional payment component of default payments for the upcoming auction of Air-Ground Radiotelephone Service licenses in the 800 MHz band.

FOR FURTHER INFORMATION CONTACT: For legal questions: Howard Davenport at (202) 418-0660.

SUPPLEMENTARY INFORMATION: This is a summary of the Auction No. 65 Supplemental Public Notice released on March 20, 2006. The complete text of the Auction No. 65 Supplemental Public Notice, including attachments and related Commission documents is available for public inspection and copying from 8 a.m. to 4:30 p.m. Monday through Thursday or from 8 a.m. to 11:30 a.m. on Friday at the FCC Reference Information Center, Portals II, 445 12th Street, SW., Room CY-A257, Washington, DC 20554. The Auction No. 65 Supplemental Public Notice and related Commission documents may also be purchased from the Commission's duplicating contractor, Best Copy and Printing, Inc. (BCPI), Portals II, 445 12th Street, SW., Room CY-B402, Washington, DC, 20554, telephone 202-488-5300, facsimile 202-488-5563, or you may contact BCPI at its Web site: http://www.BCPIWEB. com. When ordering documents from BCPI please provide the appropriate FCC document number, for example, DA 06-588. The Auction No. 65 Supplemental Public Notice and related documents are also available on the Internet at the Commission's Web site: http://wireless.fcc.gov/auctions/65/.

I. Additional Default Payments of Twenty Percent Will Apply in Auction No. 65

1. 47 CFR 1.2104(g)(2) of the Commission's rules provides that if, after the close of an auction, a winning bidder defaults on a down payment or final payment obligation or is disqualified (e.g., fails to submit a timely long-form application), the bidder is liable for a default payment. This payment consists of a deficiency payment, equal to the difference between the amount of the bidder's bid and the amount of the winning bid the next time a license covering the same spectrum is won in an auction, plus an additional payment equal to a percentage of the defaulter's bid or of the subsequent winning bid, whichever is less.

2. In the CSEA/Part 1 Report and Order, 71 FR 6214, February 7, 2006, the Commission modified 47 CFR 1.2104(g)(2) by increasing the limit on the additional default payment for non-combinatorial auctions from three to twenty percent. The Commission further indicated that prior to each non-combinatorial auction it will establish an additional default payment of three to twenty percent for that auction and that the specific level of this payment in each case will be based on the nature of the service and the inventory of the licenses being offered.

3. In the Auction No. 65 Second Comment Public Notice, 71 FR 10034, February 28, 2006, the Bureau proposed an additional default payment of twenty percent for Auction No. 65. The Bureau received no comments on its proposal.

4. In Auction No. 65, licenses in three band plans will be available, but the only licenses that will be awarded will be those that comprise the band plan that receives the highest aggregate bid. A bid on a single license therefore may determine not only the winner of that license but also the winning band plan, and thus affect the ability of other bidders to win other licenses in the auction. By contrast, a bid on a license in an auction using the Commission's standard simultaneous multiple round auction format (SMR) may determine only the winner of that license.

5. The Bureau continues to believe, as explained in the Auction No. 65 Second Comment Public Notice, that, because of the particular interdependence among bids in Auction No. 65 and the potential effects of one winning bidder's default on bidders for other licenses, the detrimental effects of a default may be significantly greater than in a standard SMR auction. The Bureau therefore adopts its proposal and will apply an additional default payment of twenty percent to any defaults after the close of Auction No. 65.

Federal Communications Commission.
Gary D. Michaels,
Deputy Chief, Auctions and Spectrum Access Division, WTB.

[FR Doc. E6-4606 Filed 3-28-06; 8:45 am]

BILLING CODE 6712-01-P